DEPARTMENT OF HEALTH AND HUMAN SERVICES

Food and Drug Administration

[Docket No. FDA-2009-N-0394]

Request for Nominations for Voting Members on a Public Advisory Committee; Tobacco Products Scientific Advisory Committee

AGENCY: Food and Drug Administration, HHS.

ACTION: Notice.

SUMMARY: The Food and Drug Administration (FDA) is requesting nominations for members to serve on the Tobacco Products Scientific Advisory Committee (the committee) in the Office of Science, Center for Tobacco Products. Elsewhere in this issue of the Federal Register, FDA is publishing a document announcing the establishment of this committee.

FDA has a special interest in ensuring that women, minority groups, and individuals with disabilities are adequately represented on advisory committees and, therefore, encourages nominations of qualified candidates from these groups.

DATES: Nominations received on or before October 13, 2009, will be given first consideration for membership on the Tobacco Products Scientific Advisory Committee. Nominations received after October 13, 2009, will be considered for nomination to the Tobacco Products Scientific Advisory Committee should nominees still be needed.

ADDRESSES: All letters of interest and nominations should be submitted in writing to Erik P. Mettler (see FOR FURTHER INFORMATION CONTACT).

FOR FURTHER INFORMATION CONTACT: Erik P. Mettler, Office of Policy, Office of the Commissioner, Food and Drug Administration, 10903 New Hampshire Ave., WO1, rm. 4324, Silver Spring, MD 20993, 301-796-4711, FAX: 301-847-3541, e-mail: erik.mettler@fda.hhs.gov.

SUPPLEMENTARY INFORMATION: FDA is requesting nominations for voting members on the Tobacco Products Scientific Advisory Committee. Elsewhere in this issue of the Federal Register, FDA is publishing a Request for Notification from Industry Organizations interested in participating in the selection process for nonvoting industry representatives on the Tobacco Products Scientific Advisory Committee.

I. Function of the Tobacco Products Scientific Advisory Committee

The Tobacco Products Scientific Advisory Committee advises the Commissioner of Food and Drugs (the Commissioner) or designee in discharging responsibilities as they relate to the regulation of tobacco products. The committee reviews and evaluates safety, dependence, and health issues relating to tobacco products and provides appropriate advice, information, and recommendations to the Commissioner.

II. Criteria for Voting Members

The committee shall consist of 12 members including the Chair. Members and the Chair are selected by the Commissioner or designee from among individuals knowledgeable in the fields of medicine, medical ethics, science, or technology involving the manufacture, evaluation, or use of tobacco products. Almost all non-Federal members of this committee serve as Special Government Employees. The committee shall include nine technically qualified voting members, selected by the Commissioner or designee. The nine voting members shall be physicians, dentists, scientists, or health care professionals practicing in the area of oncology, pulmonology, cardiology, toxicology, pharmacology, addiction, or any other relevant specialty. One member shall be an officer or employee of a State or local government or of the Federal Government. The final voting member shall be a representative of the general public.

In addition to the voting members, the committee shall include three nonvoting members who are identified with industry interests. These members shall include one representative of the tobacco manufacturing industry, one representative of the interests of tobacco growers, and one representative of the interests of the small business tobacco manufacturing industry. This final position can be filled on a rotating, sequential basis by representatives of different small business tobacco manufacturers based on areas of expertise relevant to the topics being considered by the committee. Elsewhere in this issue of the Federal Register, FDA is publishing a Request for Notification from Industry Organizations interested in participating in the selection process for nonvoting industry representatives on the Tobacco Products Scientific Advisory Committee.

The Commissioner or designee shall designate one of the voting members of the committee to serve as chairperson.

III. Nomination Procedures

Any interested person may nominate one or more qualified persons for membership on the advisory committee. Self-nominations are also accepted. Nominations must include a current resume or curriculum vitae of each nominee, including current business address and/or home address, telephone number, and e-mail address if available. Nominations must also acknowledge that the nominee is aware of the nomination unless self-nominated. FDA will ask the potential candidates to provide detailed information concerning matters related to financial holdings, employment, and research grants and/or contracts.

This notice is issued under the Federal Advisory Committee Act (5 U.S.C. app. 2) and 21 CFR part 14, relating to advisory committees.

Dated: August 19, 2009.
David Horowitz,
Assistant Commissioner for Policy.

[FR Doc. E9-20487 Filed 8-25-09; 8:45 am]

BILLING CODE 4160-01-S